DEPARTMENT OF HOMELAND SECURITY

Transportation Security Administration

Extension of Agency Information Collection Activity Under OMB Review: Law Enforcement Officer Flying Armed Training

AGENCY: Transportation Security Administration, Homeland Security (DHS).

ACTION: 30-Day notice.

SUMMARY: This notice announces that the Transportation Security Administration (TSA) has forwarded the Information Collection Request (ICR), Office of Management and Budget (OMB) control number 1652-0034, abstracted below to OMB for review and approval of an extension of the currently approved collection under the Paperwork Reduction Act (PRA). The ICR describes the nature of the information collection and its expected burden. The collection involves the Federal Air Marshal Service (FAMS) maintenance of a database of all territorial, tribal, Federal, municipal, county, State, and authorized railroad law enforcement agencies that have received the Law Enforcement Officers Flying Armed Training course.

DATES: Send your comments by September 9, 2021. A comment to OMB is most effective if OMB receives it within 30 days of publication.

ADDRESSES: Written comments and recommendations for the proposed information collection should be sent within 30 days of publication of this notice to www.reginfo.gov/public/do/PRAMain. Find this particular information collection, OMB control number 1652-0034, by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on April 8, 2021, 86 FR 18292.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Law Enforcement Officers Flying Armed Training.

Type of Request: Extension of a currently approved collection.

OMB Control Number: 1652-0034.

Forms(s): N/A.

Affected Public: Law Enforcement Officers.

Abstract: TSA requires territorial, tribal, Federal, municipal, county, State, and authorized railroad law enforcement officers (LEOs) who have a mission need to fly armed to complete the LEOs Flying Armed Training under 49 CFR 1544.219. Eligibility is based on requirements stated in 49 CFR 1544.219. TSA will gather information, including, but not limited to, agency name and address, and name of each individual who will receive the training from law enforcement agencies that have requested the LEOs Flying Armed training course. Applicant verification ensures that only LEOs with a valid need to fly armed aboard commercial aircraft receive training. Applicants come from territorial, tribal, Federal, municipal, county, State, and authorized railroad law enforcement agencies throughout the country. For more information about the program, please see https://www.tsa.gov/travel/law-enforcement.

Number of Respondents: 2,000.

Estimated Annual Burden Hours: An estimated 167 hours annually.

Dated: August 5, 2021.
Christina A. Walsh,
TSA Paperwork Reduction Act Officer, Information Technology.

[FR Doc. 2021-17007 Filed 8-9-21; 8:45 am]

BILLING CODE 9110-05-P